DEPARTMENT OF HEALTH AND HUMAN SERVICES

Administration on Aging

[Program Announcement No. AoA-00-05]

Fiscal Year 2000 Program Announcement; Notice Requesting Applications

AGENCY: Administration on Aging, HHS

ACTION: Announcement of a request for applications to carry out Racial and Ethnic Approaches to Community Health 2010 (REACH 2010). An important goal of REACH 2010 is to eliminate health disparities among elderly racial and/or ethnic minority groups. Areas of concentration are: diabetes, cardiovascular diseases, and adult immunizations.

SUMMARY: Under this program announcement, the Administration on Aging (AoA) will hold a competition for grant awards of four (4) cooperative agreements to plan for implementation of community level interventions which can eliminate health disparities among elderly members of racial and ethnic minority groups. The purpose of REACH 2010 is to assist communities to organize and prepare an infrastructure for the development and conduct of community-based disease prevention and health promotion models.

The deadline date for the submission of applications is August 21, 2000. Eligibility for grant awards is limited to public and/or nonprofit agencies, organizations, and institutions with experience in health education and promotion for elderly populations. More specifically, the standard of eligibility requires that the applicant, together with the other organizations composing a community coalition, have extensive knowledge about the health concerns of the designated older minority population they plan to serve and proven records of accomplishment serving and working with the community group(s) identified.

Application kits are available by writing to the U.S. Department of Health and Human Services, Administration on Aging, Office of Program Development, 330 Independence Avenue, S.W., Room 4268, Washington, DC 20201, or by calling (202) 619-3428.

Dated: July 14, 2000.
Jeanette C. Takamura,
Assistant Secretary for Aging

[FR Doc. 00-18494 Filed 7-20-00; 8:45 am]

BILLING CODE 4154-01-U